DEPARTMENT OF COMMERCE

International Trade Administration

[A-533-809]

Notice of Extension of Time Limit for the Preliminary Results of Antidumping Duty Administrative Review: Stainless Steel Flanges From India

AGENCY: Import Administration, International Trade Administration, Department of Commerce.

DATES: Effective Dates:

November 1, 2006.

FOR FURTHER INFORMATION CONTACT: Fred Baker or Robert James, AD/CVD Operations, Office 7, Import Administration, International Trade Administration, U.S. Department of Commerce, 14th Street and Constitution Avenue, NW., Washington, DC 20230; telephone: (202) 482-2924 or (202) 482-0649, respectively.

SUPPLEMENTARY INFORMATION:

Background

On February 9, 1994, the Department published the antidumping duty order on stainless steel flanges from India. See Amended Final Determination and Antidumping Duty Order; Certain Forged Stainless Steel Flanges from India, 59 FR 5994 (February 9, 1994). On February 28, 2006, we received requests for an administrative review for the period February 1, 2005, through January 31, 2006, from Echjay Forgings Pvt. Ltd. (Echjay) and Shree Ganesh Forgings, Ltd. (Shree Ganesh). We also received requests for a new shipper review and, failing that, an administrative review, from Kunj Forgings Pvt. Ltd. (Kunj), Micro Forge (India) Ltd. (Micro), Pradeep Metals Limited (Pradeep), and Rollwell Forge, Ltd. (Rollwell). On April 5, 2006, we initiated administrative reviews of the six companies. See Initiation of Antidumping and Countervailing Duty Administrative Reviews and Deferral of Administrative Reviews, 71 FR 17077 (April 5, 2006).¹ The preliminary results of the administrative review are currently due no later than October 31, 2006.

¹ On April 6, 2006, the Department published a notice initiating new shipper reviews of Kunj, Micro, Pradeep, and Rollwell. See Stainless Steel Flanges from India: Notice of Initiation of Antidumping Duty New Shipper Reviews, 71 FR 17439 (April 6, 2006). On September 29, 2006, we rescinded the new shipper reviews with respect to Micro, Pradeep, and Rollwell. See Certain Forged Stainless Steel Flanges from India: Notice of Partial Rescission of New Shipper Reviews, 71 FR 57468 (September 29, 2006).

Extension of Time Limit for Preliminary Results

The Tariff Act of 1930, as amended (the Act), at section 351(a)(3)(A), provides that the Department will issue the preliminary results of an administrative review of an antidumping duty order within 245 days after the last day of the anniversary month of the date of publication of the order. The Act provides further that if the Department determines that it is not practicable to complete the review within this time period, the Department may extend the 245-day period to 365 days.

The Department has determined that it is not practicable to complete the preliminary results by the current 245-day deadline of October 31, 2006. Rollwell has reported several new model types of flanges that the Department has not analyzed in previous segments of this proceeding. We require additional time to make a thorough analysis of these model types and to determine appropriate model match weighting criteria. Therefore, in accordance with section 751(a)(3)(A) of the Act, and 19 CFR 351.213(h)(2), the Department is extending the time limit for the preliminary results by 120 days to February 28, 2007.

This notice is issued and published in accordance with sections 751(a)(3)(A) and 777(i)(1) of the Act.

Dated: October 25, 2006.
Stephen J. Claeys,
Deputy Assistant Secretary for Import Administration.

[FR Doc. E6-18407 Filed 10-31-06; 8:45 am]

BILLING CODE 3510-DS-P